DEPARTMENT OF VETERANS AFFAIRS

[OMB Control No. 2900-0116]

Agency Information Collection (Notice to Department of Veterans Affairs of Veteran or Beneficiary Incarcerated in Penal Institution) Activity Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before March 3, 2014.

ADDRESSES: Submit written comments on the collection of information through www.Regulations.gov or to Office of Information and Regulatory Affairs, Office of Management and Budget, Attn: VA Desk Officer, 725 17th St. NW., Washington, DC 20503, or send through electronic mail to oira_submission@omb.eop.gov. Please refer to “OMB Control No. 2900-0116” in any correspondence.

FOR FURTHER INFORMATION CONTACT: Crystal Rennie, Enterprise Records Service (005R1B), Department of Veterans Affairs, 810 Vermont Avenue NW., Washington, DC 20420, (202) 632-7492 or email crystal.rennie@va.gov . Please refer to “OMB Control No. 2900-0116.”

SUPPLEMENTARY INFORMATION: Title: Notice to Department of Veterans Affairs of Veteran or Beneficiary Incarcerated in Penal Institution, VA Form 21-4193.

OMB Control Number: 2900-0116.

Type of Review: Extension of a currently approved collection.

Abstract: The data collected on VA Form 21-4193 is used to determine whether a beneficiary's VA compensation or pension rate should be reduced or terminated when he or she is incarcerated in a penal institution in excess of 60 days after conviction.

An agency may not conduct or sponsor, and a person is not required to respond to a collection of information unless it displays a currently valid OMB control number. The Federal Register Notice with a 60-day comment period soliciting comments on this collection of information was published 78 FR 46420 (July 31, 2013).

Affected Public: State, Local or Tribal Governments.

Estimated Annual Burden: 416 hours.

Estimated Average Burden Per Respondent: 15 minutes.

Frequency of Response: One-time.

Estimated Number of Respondents: 1,664.

Dated: January 27, 2014.
By direction of the Secretary.
Crystal Rennie,
Department Clearance Officer, Department of Veterans Affairs.

[FR Doc. 2014-01938 Filed 1-30-14; 8:45 am]

BILLING CODE 8320-01-P